DEPARTMENT OF DEFENSE

Department of the Army

Surplus Properties; Notice

AGENCY: Department of the Army; DoD.

ACTION: Notice.

SUMMARY: This notice provides information regarding the properties that have been determined surplus to the United States needs in accordance with the Defense Base Closure and Realignment Act of 1990, Public Law 101-510, as amended, and the 2005 Base Closure and Realignment Commission Report, as approved, and following screening with Federal agencies and Department of Defense components. This Notice amends the Notice published in the Federal Register (71 FR 26930) on May 9, 2006.

DATES: Effective May 8, 2007.

FOR FURTHER INFORMATION CONTACT: Headquarters, Department of the Army, Assistant Chief of Staff for Installation Management, Base Realignment and Closure Division, Attn: BAIM-BD, 600 Army Pentagon, Washington DC 20310-0600. (703) 601-2418. For information regarding a specified property listed below, contact the Army BRAC Division at ArmyBRAC2005@hqda.army.mil or at the mailing address above.

SUPPLEMENTARY INFORMATION: Under the provisions of the Federal Property and Administrative Services Act of 1949, as amended, the Defense Base Closure and Realignment Act of 1990, as amended, and other public benefit conveyance authorities, this surplus property may be available for conveyance to State and local governments and other eligible entities for public benefit purposes. Notices of interest from representatives of the homeless, and other interested parties located in the vicinity of any listed surplus property should be submitted to the Local Redevelopment Authority (LRA) listed on the Office of Economic Adjustment Web site: http://www.oea.gov/oeaweb.nsf/LRA?readform. Some of the surplus properties do not have a currently recognized LRA and therefore can not accept notices of interest. If no LRLA is listed, homeless and other interest parties may send a request to the Army at the e-mail address listed above to be notified once a LRA is recognized. The properties are listed by State. Additional information for these of any Army BRAC 2005 plus property may be found at http://www.hqda.army.mil/acsimweb/brac/braco.htm.

Surplus Property List

1. Addition

Arkansas

Camden—Camden USARC, 2185 Highway 79 NW; A LRA has not yet been recognized.

Connecticut

New Haven—SGT George D. Libby USARC, 200 Wintergreen Avenue; A LRA has not yet been recognized.

New York

Bronx—SGT Joseph E. Muller USARC, 555 East 238th Street; A LRA has not yet been recognized.

Pennsylvania

Scranton—CSM Samuel P. Serrenti Memorial USARC, 1801 Pine Street; A LRA has not yet been recognized.

Washington

Everett—MAJ David P. Oswald USARC, 1110 Rainer Avenue; A LRA has not yet been recognized.

Wisconsin

Madison—Truman Olson USARC, 1402 South Park Street; A LRA has not been recognized.

2. Correction

Tennessee

Chattanooga—Chattanooga (Volunteer Army Ammunition Plant) USARC (BLDG 228) 6703d Bonny Oaks Dive; Notice corrects surplus acreage from 15 acres to one acre. A LRA Has not yet been recognized.

Authority: This action is authorized by the Defense Base Closure and Realignment Act of 1990, Title XXIX of the National Defense Authorization Act for Fiscal Year 1991, Pub. L. 101-510; the Base Closure Community Redevelopment and Homeless Assistance Act of 1994, Pub. L. 103-421; the Military Construction Authorization Act for Fiscal Year 1994, Division B of Pub. L. 103-106; and 10 U.S.C. 113.

Dated: April 27, 2007.
William T. Birney,
Acting Deputy Assistant Secretary of the Army (Installations and H Housing).

[FR Doc. 07-2262 Filed 5-7-07; 8:45 am]

BILLING CODE 3710-08-M